SMALL BUSINESS ADMINISTRATION

Region 1—Maine District Advisory Council Public Meeting; Correction

The U.S. Small Business Administration, Maine District Advisory Council, located in the geographical area of Augusta, Maine, will be hosting a public meeting to discuss such matters as may be presented by members, staff of the U.S. Small Business Administration, or others present. Previously, the meeting was scheduled for Tuesday, March 22, 2005, and has been canceled for a later date. The meeting has been rescheduled for Wednesday, March 30, 2005, at 10 a.m. The meeting will take place at the U.S. Small Business Administration, Maine District Office, 68 Sewall Street, Room 510, Augusta, Maine.

Anyone wishing to attend must contact Mary McAleney in writing or by fax. Mary McAleney, District Director, U.S. Small Business Administration, 68 Sewall Street, Room 512, Augusta, Maine 04330, (207) 622-8386 telephone, (207) 622-8277 fax.

Matthew K. Becker,
Committee Management Officer.

[FR Doc. 05-3984 Filed 3-1-05; 8:45 am]

BILLING CODE 8025-01-P